ELECTION ASSISTANCE COMMISSION

Sunshine Act Notices

Agency: Election Assistance Commission.

Date and Time: Thursday, June 3, 2004, at 9 a.m.

Place: Loyola University, Water Tower Campus, 25 East Pearson, Chicago, IL 60611, 15th Floor, Kasbeer Hall.

Status: This meeting will be open to the public.

Note: Early arrival: Those attending are advised to arrive early for registration and security check.

Purpose: To conduct a public hearing to identify best practices, problems and transition issues associated with optical scan, punch card, and lever machine voting systems and the success and problems identified with the use of provisional voting.

The following witness panels will be presented: punchcard panel, lever machine panel, optical scan panel and provisional vote panel.

For Further Information Contact: Bryan Whitener, Telephone: (202) 566-3100.

Paul S. DeGregorio,
Commissioner, Election Assistance Commission.

[FR Doc. 04-11687 Filed 5-19-04; 2:15 pm]

BILLING CODE 6820-01-M